DEPARTMENT OF AGRICULTURE

National Agricultural Statistics Service

Notice of Intent To Resume the Bee and Honey Surveys and All Associated Reports

AGENCY: National Agricultural Statistics Service, USDA.

ACTION: Notice of resumption of data collection and publication.

SUMMARY: This notice announces the intention of the National Agricultural Statistics Service (NASS) to resume a currently approved information collection for bee and honey data and all associated reports.

FOR FURTHER INFORMATION CONTACT: Joseph T. Reilly, Associate Administrator, National Agricultural Statistics Service, U.S. Department of Agriculture, (202) 720-4333, or through the NASS OMB Clearance Officer at ombofficer@nass.usda.gov.

SUPPLEMENTARY INFORMATION: Title: Bee and Honey Surveys and Publications.

OMB Control Number: 0535-0153.

Expiration Dates of Approval: May 31, 2013.

Type of Request: To resume a currently approved information collection.

Abstract: The primary functions of the National Agricultural Statistics Service includes the collection of data and the preparation and issuance of state and national estimates of crop and livestock production, disposition, prices, and environmental and economic factors.

The current OMB approval for the Bee and Honey Survey is for all States except Alaska. The estimated population is approximately 10,000 operations. The survey is conducted once a year. Under this survey program, NASS asks for: The number of colonies owned; the number of colonies honey is harvested from; how many pounds of honey were harvested; how many pounds of honey are in Stock on December 15th; and how many pounds of honey were sold and the correlating price. The respondents are also asked to break out their sales by honey color class and marketing channel(s).

Timeline: This collection was suspended on November 17, 2011 due to budget constraints. After having secured additional funding, NASS will resume this information collection on January 23, 2012 and will publish the survey results on March 30, 2012.

Authority: These data are collected under authority of 7 U.S.C. 2204(a) (General Duties of the Secretary of Agriculture). Individually identifiable data collected under this authority are governed by Section 1770 of the Food Security Act of 1985, 7 U.S.C. 2276, which requires USDA to afford strict confidentiality to non-aggregated data provided by respondents.

Signed at Washington, DC, December 12, 2011.
Joseph T. Reilly,
Associate Administrator.

[FR Doc. 2012-166 Filed 1-6-12; 8:45 am]

BILLING CODE 3410-20-P